DEPARTMENT OF THE INTERIOR

Fish and Wildlife Service

Final Comprehensive Conservation Plan and Environmental Assessment for the Detroit River International Wildlife Refuge (IWR), Wayne and Monroe Counties, MI

AGENCY: Fish and Wildlife Service, Interior.

ACTION: Notice of availability.

SUMMARY: The U.S. Fish and Wildlife Service announces that the Final Comprehensive Conservation Plan (CCP) and Environmental Assessment (EA) is available for Detroit River IWR, Michigan. The CCP was prepared pursuant to the National Wildlife Refuge System Administration Act of 1966, as amended by the National Wildlife Refuge System Improvement Act of 1997, and the National Environmental Policy Act of 1969. Goals and objectives in the CCP describe how the agency intends to manage the Refuge over the next 15 years.

ADDRESSES: Copies of the Final CCP are available on compact disk or hard copy. You may access and download a copy via the planning Web site (http://www.fws.gov/midwest/planning/detroitriver/index.html) or you may obtain a copy by writing to the following address: U.S. Fish and Wildlife Service, Division of Conservation Planning, Bishop Henry Whipple Federal Building, 1 Federal Drive, Fort Snelling, Minnesota 55111.

FOR FURTHER INFORMATION CONTACT: John Hartig at (734) 692-7608.

SUPPLEMENTARY INFORMATION: The approved boundary of the Detroit River IWR is located along 42 miles of the lower Detroit River and Michigan's Lake Erie shoreline to the Ohio state border. The Refuge was established by legislation in December 2001 and expanded in May 2003. Refuge ownership is currently small and limited to several islands in the Detroit River and two coastal parcels in Monroe County.

The National Wildlife Refuge System Administration Act of 1966, as amended by the National Wildlife Refuge System Improvement Act of 1997 (16 U.S.C. 668dd-668ee et seq) requires a CCP. The purpose in developing CCPs is to provide refuge managers with a 15-year strategy for achieving Refuge purposes and contributing toward the mission of the National Wildlife Refuge System, consistent with sound principles of fish and wildlife management, conservation, legal mandates, and Service policies. In addition to outlining broad management direction for conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

The major focus of the Refuge for the next 15 years will be building a refuge land base, programs, and staff primarily through partnerships and cooperative agreements with landowners and local non-government organizations. The Refuge's key biological focus will be conserving and enhancing remnant coastal wetlands and island habitats for the benefit of the migratory birds, especially diving waterfowl. A modest visitor services program is proposed on existing Refuge lands. Grassy Island is closed due to safety concerns and Mud and Calf Islands can only be reached using watercraft. However, public programs could expand if a shared visitor center is built adjacent to the Refuge's Humbug Marsh.

Dated: December 2, 2004.
Charles M. Wooley,
Acting Regional Director, U.S. Fish and Wildlife Service, Ft. Snelling, Minnesota.

[FR Doc. 05-12501 Filed 6-23-05; 8:45 am]

BILLING CODE 4310-55-P